DEPARTMENT OF THE INTERIOR

Bureau of Land Management

[A2407-014-004-065516, #O2509-014-004-125222]

Notice of 2026 National Petroleum Reserve—Alaska Oil and Gas Lease Sale Lease Sale

Editorial Note: This BLM document FR Doc. 2026-02719 was originally scheduled to publish in the Federal Register issue of February 6, 2026, as FR Doc. 2026-02421.

AGENCY: Bureau of Land Management, Interior.

ACTION: Notice.

SUMMARY: The Bureau of Land Management's (BLM) Alaska State Office will hold an oil and gas lease sale bid opening for over 600 tracts in the National Petroleum Reserve—Alaska (NPR-A).

DATES: The oil and gas lease sale bid opening will be at 10 a.m. (AKST) on March 18, 2026. The BLM must receive all sealed bids by 4 p.m. (AKST) on March 16, 2026. The Detailed Statement of Sale for the National Petroleum Reserve—Alaska Oil and Gas Lease Sale 2026 will be available to the public on February 11, 2026.

ADDRESSES: Sealed bids must be received at the BLM-Alaska State Office, ATTN: Wayne Svejnoha (AK932); 222 West 7th Avenue, #13; Anchorage, AK 99513-7504. The Detailed Statement of Sale is available from the BLM Alaska website at https://www.blm.gov/programs/energy-and-minerals/oil-and-gas/leasing/regional-lease-sales/alaska.

FOR FURTHER INFORMATION CONTACT: Wayne Svejnoha, Acting Deputy State Director Resources, phone 907-271-4407 or email, wsvejnoh@blm.gov. Individuals in the United States who are deaf, deafblind, hard of hearing, or have a speech disability may dial 711 (TTY, TDD, or TeleBraille) to access telecommunications relay services for contacting Mr. Svejnoha. Individuals outside the United States should use the relay services within their country to make international calls to the point-of-contact in the United States.

SUPPLEMENTARY INFORMATION: The 2026 NPR-A Oil and Gas Lease Sale will include over 600 tracts totaling approximately 5.5 million acres that are available for leasing under the 2025 Record of Decision (ROD) for the NPR-A Integrated Activity Plan (IAP). This action advances priorities in Executive Order 14153 and Secretary's Order 3422—Unleashing Alaska's Extraordinary Resource Potential—and implements direction in Public Law (Pub. L.) 119-21, the One Big Beautiful Bill Act. Section 50105 of Public Law 119-21 directed BLM to expeditiously restore and resume oil and gas lease sales under the competitive oil and gas leasing, exploration, development, and production program established by the Naval Petroleum Reserves Production Act of 1976, as amended (42 U.S.C. 6506a), requiring at least five lease sales of at least 4,000,000 acres each beginning with an initial lease sale no later than July 4, 2026.

The opening and reading of the bids for the 2026 lease sale will be available for online public viewing via video livestreaming at http://www.blm.gov/live.

The Detailed Statement of Sale includes a description of the areas the BLM is offering for lease, as well as the lease terms, conditions, special stipulations, required operating procedures, and directions for how to submit bids. If you plan to submit a bid(s), please note that all bids must be sealed in accordance with the provisions identified in the Detailed Statement of Sale.

The United States reserves the right to withdraw any tract from this sale prior to issuance of a written acceptance of a bid.

Authority: The Naval Petroleum Reserves Production Act (NPRPA) of 1976 (42 U.S.C. 6501 et seq.), as amended; Pub. L. 119-21, the One Big Beautiful Bill Act; 43 CFR 3131.4-1.

Kevin J. Pendergast,
State Director, Alaska.

[FR Doc. 2026-02719 Filed 2-10-26; 8:45 am]

BILLING CODE 4310-JA-P